Title 3—

The President

Proclamation 8790 of April 2, 2012

National Cancer Control Month, 2012

By the President of the United States of America

A Proclamation

This year, an estimated half a million Americans will lose their lives to cancer, and three times that many will be diagnosed with this devastating illness. Cancer patients are parents and grandparents, children and cherished friends; the disease touches almost all of us and casts a shadow over families and communities across our Nation. Yet, today, we stand at a critical moment in cancer research that promises significant advances for patients and an accelerated pace of lifesaving discoveries. During National Cancer Control Month, we remember those we have lost, support Americans fighting this disease, and recommit to progress toward effective cancer control.

Prevention and screening are our best defenses against cancer. All Americans can reduce their risk by keeping a healthy diet, exercising regularly, limiting sun exposure, avoiding excessive alcohol consumption, and living tobacco-free. Because tobacco use causes a wide variety of cancers and chronic lung diseases, I encourage individuals struggling to quit to call 1-800-QUIT-NOW or visit www.SmokeFree.gov for help and information.

Regular screening and check-ups with a health professional can also play a key role in preventing cancer and detecting the disease early, when it is often most treatable. Under the Affordable Care Act, over 54 million Americans with private health coverage have already received preventive services—including mammograms and other cancer screenings—at no additional cost. For more resources on how to reduce the risk of developing cancer, visit www.Cancer.gov.

Federally funded research has brought about landmark advances in cancer prevention, diagnosis, and treatment that promise real change for the millions of Americans facing this disease. Sophisticated analysis continues to shed light on the molecular basis of cancer and unlock new therapies. Innovative studies are paving the way for effective treatments to deadly cancers, including melanoma. And new research shows that screening procedures can reduce mortality from lung cancer, which could save lives among those at greatest risk. As we move forward, my Administration will continue to support groundbreaking cancer research that brings hope to countless individuals and families across our country.

Over the past several decades, we have made remarkable progress in understanding and combatting cancer. We owe the knowledge we have gained and the lives we have saved to the countless doctors, patients, families, and researchers whose dedication and perseverance have led the way to today’s most promising technologies and treatments. During National Cancer Control Month, we pay tribute to the men, women, and children we have lost to cancer, and we look ahead to a future in which more Americans have the opportunity to live out the full measure of their days in health and happiness.

The Congress of the United States, by joint resolution approved March 28, 1938 (52 Stat. 148; 36 U.S.C. 103), as amended, has requested the President to issue an annual proclamation declaring April as “Cancer Control Month.”

NOW, THEREFORE, I, BARACK OBAMA, President of the United States of America, do hereby proclaim April 2012 as National Cancer Control Month. I encourage citizens, government agencies, private businesses, nonprofit organizations, and other interested groups to join in activities that will increase awareness of what Americans can do to prevent and control cancer.

IN WITNESS WHEREOF, I have hereunto set my hand this second day of April, in the year of our Lord two thousand twelve, and of the Independence of the United States of America the two hundred and thirty-sixth.

[FR Doc. 2012-8317

Filed 4-4-12; 8:45 am]

Billing code 3295-F2-P